DEPARTMENT OF DEFENSE

Office of the Department of the Air Force

Record of Decision for the United States Air Force Special Use Airspace Optimization at Holloman Air Force Base Environmental Impact Statement

AGENCY: Department of the Air Force, DoD.

ACTION: Notice of availability of record of decision.

SUMMARY: On March 29, 2021, the Department of the Air Force (DAF) signed the Record of Decision (ROD) for the Special Use Airspace Optimization at Holloman Air Force Base Environmental Impact Statement.

ADDRESSES: Ms. Robin Divine, AFCEC/CZN, 2261 Hughes Avenue, Suite 155, JBSA—Lackland Air Force Base, Texas 78236-9853, (210) 925-2730; robin.divine@us.af.mil.

SUPPLEMENTARY INFORMATION: The Department of the Air Force has decided to expand the lateral and vertical boundaries of the existing Talon Military Operations Area (MOA) and associated Air Traffic Control Assigned Airspace (ATCAA) in eastern New Mexico. The expanded MOA/ATCAA will support training for pilots stationed at Holloman Air Force Base.

The DAF decision documented in the ROD was based on matters discussed in the Final Environmental Impact Statement, inputs from the cooperating agencies, Native American Tribes, members of the public, and regulatory agencies, and other relevant factors. The Final Environmental Impact Statement was made available to the public on February 5, 2021 through a Notice of Availability in the Federal Register (Volume 86, Number 23, page 8356) with a waiting period that ended on March 8, 2021.

Authority: This Notice of Availability is published pursuant to the regulations (40 CFR part 1506.6) implementing the provisions of the National Environmental Policy Act (42 U.S.C. 4321, et seq.) and the Air Force's Environmental Impact Analysis Process (32 CFR parts 989.21(b) and 989.24(b)(7)).

Adriane Paris,
Acting Air Force Federal Register Liaison Officer.

[FR Doc. 2021-07187 Filed 4-7-21; 8:45 am]

BILLING CODE 5001-10-P